DEPARTMENT OF THE INTERIOR

Bureau of Land Management

[LLCON03000.LF2200000.JS0000.LFESGZT40000]

Notice of Temporary Closure on Public Lands in Mesa County, CO

AGENCY: Bureau of Land Management, Interior.

ACTION: Notice of Temporary Closure.

SUMMARY: Notice is hereby given that a temporary closure is in effect on public lands administered by the Bureau of Land Management (BLM), Grand Junction Field Office, Grand Junction, Colorado.

DATES: This Temporary Closure will be in effect from 12:01 a.m. (Mountain Time) on Thursday, July 12, 2012, until 11:59 p.m. (Mountain Time) on Friday, July 12, 2013.

ADDRESSES: The Grand Junction Field Office address is 2815 H Road, Grand Junction, Colorado 81506.

FOR FURTHER INFORMATION CONTACT: Catherine Robertson, Grand Junction Field Office Manager, at the above address or by phone at 970-244-3000. Persons who use a telecommunications device for the deaf (TDD) may call the Federal Information Relay Service (FIRS) at 800-877-8339 to contact the above individual during normal business hours. The FIRS is available 24 hours a day, 7 days a week, to leave a message or question with the above individual. You will receive a reply during normal business hours.

SUPPLEMENTARY INFORMATION: This temporary closure affects public lands burned in the Pine Ridge Fire northeast of Grand Junction, Mesa County, Colorado. The public lands within the temporary closure are administered by the BLM, Grand Junction Field Office. The northern boundary of the temporary closure is located at Route 7729A; the western boundary of the temporary closure is located approximately 8 miles west of De Beque, Colorado; the eastern boundary of the temporary closure is located at Interstate 70 and the Colorado River; and the southern boundary of the temporary closure is located at Cottonwood Creek. The legal description of the affected lands is:

Colorado, Sixth Principal Meridian

T. 9 S., R. 97 W., Sections 18, 19, and 30;

T. 9 S., R. 98 W., Sections 13 to 36, inclusive;

T. 10 S., R. 98 W., Sections 1 to 3, inclusive;

T. 9 S., R. 99 W., Sections 25 and 36.

This temporary closure is necessary due to the severe intensity of the Pine Ridge Fire. The fire destroyed much of the natural vegetation that held soils in place. A temporary closure of public land to vehicle and foot traffic within the burned area is necessary to stabilize soils, prevent erosion and protect public health and safety. The BLM spread a quick germinating, hybrid annual seed and plans to disperse native species seeds in the affected area. The dispersed seeds need to be left undisturbed to create root structure and stabilize soils. Soil erosion prevention, re-seeding operations and damage surveys are required for successful stabilization and rehabilitation of the burn area. Public use of the burned area will hamper these efforts and delay rehabilitation.

The BLM will post closure signs at main entry points to the temporary closure area. The closure notice will be posted in the Grand Junction Field Office along with maps of the affected area and other documents associated with this closure including the Environmental Assessment for the Pine Ridge Fire (DOI-BLM-CO-130-2012-0048-EA). Under the authority of Section 303(a) of the Federal Land Policy and Management Act of 1976 (43 U.S.C. 1733(a)), 43 CFR 8360.0-7 and 43 CFR 8364.1, the BLM will enforce the following rule on public land affected by the Pine Ridge Fire described as follows: You must not enter the Pine Ridge Fire Temporary Closure Area by any means of transportation, including by vehicle or foot.

The following persons are exempt from this order: Federal, state, and local officers and employees in the performance of their official duties; members of organized rescue or firefighting forces in the performance of their official duties; and persons with written authorization from the BLM.

Any person who violates the above rule(s) and/or restriction(s) may be tried before a United States Magistrate and fined no more than $1,000, imprisoned for no more than 12 months, or both. Such violations may also be subject to the enhanced fines provided for by 18 U.S.C. 3571.

Helen M. Hankins,
BLM Colorado State Director.

[FR Doc. 2012-27296 Filed 11-7-12; 8:45 am]

BILLING CODE 4310-JB-P